DEPARTMENT OF ENERGY

Federal Energy Regulatory Commission

Combined Notice of Filings #1

Take notice that the Commission received the following electric corporate filings:

Docket Numbers: EC16-31-000.

Applicants: Slate Creek Wind Project, LLC.

Description: Application for Authorization under Section 203 of the FPA of Slate Creek Wind Project, LLC and Requests for Expedited Consideration and Confidential Treatment.

Filed Date: 11/9/15.

Accession Number: 20151109-5244.

Comments Due: 5 p.m. ET 11/30/15.

Docket Numbers: EC16-32-000.

Applicants: CPV Shore, LLC.

Description: Application for Authorization Under Section 203 of the Federal Power Act and Request for Waivers, Confidential Treatment, Expedited Action and Shortened Comment Period of CPV Shore, LLC.

Filed Date: 11/10/15.

Accession Number: 20151110-5137.

Comments Due: 5 p.m. ET 12/1/15.

Take notice that the Commission received the following electric rate filings:

Docket Numbers: ER15-746-002.

Applicants: RC Cape May Holdings, LLC.

Description: Report Filing: Supplement to Refund Report to be effective N/A.

Filed Date: 11/9/15.

Accession Number: 20151109-5113.

Comments Due: 5 p.m. ET 11/30/15.

Docket Numbers: ER15-2418-002.

Applicants: Pacific Gas and Electric Company.

Description: Compliance filing: eTariff Migration Compliance Filing for BART NITSA Schedule 7 to be effective 12/31/9998.

Filed Date: 11/9/15.

Accession Number: 20151109-5195.

Comments Due: 5 p.m. ET 11/30/15.

Docket Numbers: ER16-132-001.

Applicants: Michigan Electric Transmission Company, LLC.

Description: Tariff Amendment: Filing of Agreement for Sharing of Security Related Costs to be effective 12/21/2015.

Filed Date: 11/10/15.

Accession Number: 20151110-5093.

Comments Due: 5 p.m. ET 12/1/15.

Docket Numbers: ER16-296-000.

Applicants: Alabama Power Company.

Description: § 205(d) Rate Filing: SWE (PowerSouth Territorial) NITSA Amendment (Add CVEC Talladega-Mitchell Rd DP) to be effective 10/31/2015.

Filed Date: 11/9/15.

Accession Number: 20151109-5206.

Comments Due: 5 p.m. ET 11/30/15.

Docket Numbers: ER16-297-000.

Applicants: Southwest Power Pool, Inc.

Description: § 205(d) Rate Filing: 2652R3 Waverly Wind Farm LLC GIA to be effective 10/19/2015.

Filed Date: 11/10/15.

Accession Number: 20151110-5033.

Comments Due: 5 p.m. ET 12/1/15.

Docket Numbers: ER16-298-000.

Applicants: American Electric Power Service Corporation.

Description: Application for Limited Waiver of American Electric Power Service Corporation, on behalf of its state-regulated utility affiliates within PJM Interconnection, L.L.C.

Filed Date: 11/9/15.

Accession Number: 20151109-5252.

Comments Due: 5 p.m. ET 11/30/15.

Docket Numbers: ER16-299-000.

Applicants: AEP Texas North Company.

Description: § 205(d) Rate Filing: TNC-SolaireHolman 1 Interconnection Agreement to be effective 10/22/2015.

Filed Date: 11/10/15.

Accession Number: 20151110-5051.

Comments Due: 5 p.m. ET 12/1/15.

Docket Numbers: ER16-300-000.

Applicants: AEP Texas Central Company.

Description: § 205(d) Rate Filing: TCC-The City of Brownsville TX IA First Amend & Restated to be effective 10/16/2015.

Filed Date: 11/10/15.

Accession Number: 20151110-5056.

Comments Due: 5 p.m. ET 12/1/15.

Docket Numbers: ER16-301-000.

Applicants: Southern California Edison Company.

Description: § 205(d) Rate Filing: Distribution Service Agmt with Calleguas Municipal Water District to be effective 1/10/2016.

Filed Date: 11/10/15.

Accession Number: 20151110-5077.

Comments Due: 5 p.m. ET 12/1/15.

Docket Numbers: ER16-302-000.

Applicants: Southern California Edison Company.

Description: § 205(d) Rate Filing: True-Up SGIA and Distribution Service Agmt US Borax to be effective 1/10/2016.

Filed Date: 11/10/15.

Accession Number: 20151110-5079.

Comments Due: 5 p.m. ET 12/1/15.

Docket Numbers: ER16-303-000.

Applicants: Southern California Edison Company.

Description: § 205(d) Rate Filing: GIA & Distribution Service Agreement Ganna Halvorsen Covina Solar Project to be effective 1/10/2016.

Filed Date: 11/10/15.

Accession Number: 20151110-5094.

Comments Due: 5 p.m. ET 12/1/15.

Docket Numbers: ER16-304-000.

Applicants: PacifiCorp.

Description: § 205(d) Rate Filing: BPA Construction Agmt—Conversion Ross-Lex-Swift to be effective 1/10/2016.

Filed Date: 11/10/15.

Accession Number: 20151110-5105.

Comments Due: 5 p.m. ET 12/1/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2015.
Nathaniel J. Davis, Sr.,
Deputy Secretary.

[FR Doc. 2015-29265 Filed 11-16-15; 8:45 am]

BILLING CODE 6717-01-P